FEDERAL ELECTION COMMISSION

Sunshine Act Meeting

FEDERAL REGISTER CITATION NOTICE OF PREVIOUS ANNOUNCEMENT: 87 FR 15242.

PREVIOUSLY ANNOUNCED TIME AND DATE OF THE MEETING: Tuesday, March 22, 2022 at 10:00 a.m. and its continuation at the conclusion of the open meeting on March 24, 2022.

CHANGES IN THE MEETING: This meeting also discussed:

Information the premature disclosure of which would be likely to have a considerable adverse effect on the implementation of a proposed Commission action.

* * * * *

CONTACT PERSON FOR MORE INFORMATION: Judith Ingram, Press Officer, Telephone: (202) 694-1220.

Authority: Government in the Sunshine Act, 5 U.S.C. 552b.

Vicktoria J. Allen,
Acting Deputy Secretary of the Commission.

[FR Doc. 2022-06607 Filed 3-24-22; 4:15 pm]

BILLING CODE 6715-01-P